NATIONAL AERONAUTICS AND SPACE ADMINISTRATION

[Notice 04-009]

National Environmental Policy Act; International Space Research Park at the John F. Kennedy Space Center, Florida

AGENCY: National Aeronautics and Space Administration.

ACTION: Notice of availability of the Draft Environmental Impact Statement (DEIS) for the International Space Research Park (ISRP) at the John F. Kennedy Space Center (KSC) and notice of meeting.

SUMMARY: Pursuant to the National Environmental Policy Act of 1969 (NEPA), as amended (42 U.S.C. 4321 et seq.), the Council on Environmental Quality Regulations for Implementing the Procedural Provisions of NEPA (40 CFR parts 1500-1508), and the National Aeronautics and Space Administration (NASA) policy and procedures (14 CFR part 1216 subparts 1216.1 and 1216.3), NASA has prepared, and is requesting comment on, a DEIS for the proposed ISRP at KSC, located in Florida. KSC is a major center within NASA for the Space Shuttle and International Space Station (ISS) activities and is adjacent to Cape Canaveral Air Force Station (CCAFS) from which many NASA missions are launched. The purpose of the proposed ISRP is to facilitate world-class research and development (R&D) in areas critical to the long-term success of KSC and its users and operators. NASA entered into an agreement with the State of Florida, through the Florida Space Authority (FSA), to jointly study the potential development of up to 160 ha (400 ac) of land on KSC as a research park. NASA in cooperation with FSA completed the International Space Research Park Development Study. As a result of the Development Study, NASA is proposing to lease approximately 142 ha (360 ac) in phases to the State of Florida (through the FSA), which would create an ISRP Authority (ISRPA) to develop and manage the site for the ISRP. The DEIS describes the potential environmental impacts and proposed mitigation associated with development alternatives under the proposed concept as well as the no-action alternative.

NASA has included, as an appendix, and is requesting comment on, the Biological Assessment prepared pursuant to §§ 7(a)(2) and (b)(4) of the Endangered Species Act (ESA) (16 U.S.C. 1536(a)(2) and 16 U.S.C. 1536(b)(4)). NASA has also included in the appendix the U.S. Fish and Wildlife Service's (USFWS) Biological Opinion prepared under § 10(a)(1) of the ESA (16 U.S.C. 1539(a)(1)).

DATES: The agency must receive written or electronic mail comments on the DEIS and the other listed documents on or before 50 days from the date of publication in the Federal Register of the U.S. Environmental Protection Agency's notice of availability of the ISRP DEIS, whichever is later. Public meetings to receive comments on the DEIS will be held in the vicinity of KSC. The specific times and locations will be published in Florida Today.

ADDRESSES: The DEIS may be reviewed at the following locations of the Brevard County Library:

(a) Central Brevard Library & Reference Center, 308 Forrest Ave., Cocoa, FL 32922, (321) 633-1792;

(b) Cocoa Beach Branch Library, 550 North Brevard Ave., Cocoa Beach, FL 32931, (321) 868-1104;

(c) Melbourne Branch Library, 540 E. Fee Ave., Melbourne, FL 32901, (321) 952-4514;

(d) Merritt Island Branch Library, 1195 North Courtenay Parkway, Merritt Island, FL 32953, (321) 455-1369;

(e) St. Johns Branch Library, 6500 Carole Ave., Port St. John, FL 32927, (321) 633-1867;

(f) North Brevard Branch Library, 2121 S. Hopkins Ave., Titusville, FL 32780, (321) 264-5026.

The DEIS may also be examined at the following NASA locations by contacting the pertinent Freedom of Information Act Office:

(g) NASA, Ames Research Center, Moffett Field, CA 94035 (650-604-1181);

(h) NASA, Dryden Flight Research Center, P.O. Box 273, Edwards, CA 93523 (661-276-2704);

(i) NASA, Glenn Research Center at Lewis Field, 21000 Brookpark Road, Cleveland, OH 44135 (216-433-2755);

(j) NASA, Goddard Space Flight Center, Greenbelt Road, Greenbelt, MD 20771 (301-286-0730);

(k) NASA, Johnson Space Center, Houston, TX 77058 (281-483-8612);

(l) NASA, Langley Research Center, Hampton, VA 23681 (757-864-2497);

(m) NASA, Marshall Space Flight Center, Huntsville, AL 35812 (256-544-2030);

(n) NASA, Stennis Space Center, MS 39529 (228-688-2164). In addition, the DEIS may be examined at the following locations:

(o) NASA Headquarters, Library, Room lJ20, 300 E Street SW, Washington, DC, 20546 (202-358-0167);

(p) Jet Propulsion Laboratory, Visitors Lobby, Building 249, 4800 Oak Grove Drive, Pasadena, CA 91109 (818-354-5179).

The DEIS can be accessed electronically at http://eis.ksc.nasa.gov/index.cfm.

Limited copies of the DEIS are available, on a first request basis, by contacting Mr. Mario Busacca, NASA, Mail Code TA-C3, Kennedy Space Center, Florida, 32899; Telephone 321-867-8456; e-mail (mario.busacca-1@nasa.gov).

Submit all comments in writing to Mr. Mario Busacca, NASA, Mail Code TA-C3, Kennedy Space Center, Florida, 32899, or electronically to mario.busacca-1@nasa.gov.

FOR FURTHER INFORMATION CONTACT: Mr. Mario Busacca, NASA, Mail Code TA-C3, Kennedy Space Center, Florida, 32899; Telephone (321) 867-8456; e-mail (mario.busacca-1@nasa.gov).

SUPPLEMENTARY INFORMATION: The ISRP is intended to support NASA's mission, facilitate public-private collaboration, provide for complementary R&D objectives, and further space commercialization and development, consistent with the Space Act of 1958, as amended to authorize Enhanced Use Leasing (EUL) (42 U.S.C. 2459j). The mission of the FSA is to retain, expand, and diversify the State's space-related industry. As a center for R&D, the ISRP would bring together a dynamic mix of industry, academia, and government researchers to focus their combined strengths in areas of R&D critical to the long-term success of NASA and its partners, including, but not limited to, the FSA.

NASA KSC often collaborates with others in funding and implementing projects consistent with NASA's mission and the Space Act. Collaborators who would be located on KSC at the ISRP would be those whose activities require proximity to the launch and payload-processing infrastructure of KSC. Of these, non-governmental collaborators would need greater access and operational flexibility than is currently available at KSC. NASA has, therefore, determined a need to develop a site within KSC but outside the security fence that will provide the desired proximity and flexible operating environment. The proposed action is to lease approximately 142 ha (360 ac) in phases to the State of Florida (through the FSA), which would create an ISRPA to develop and manage the site as the ISRP. The lease period is proposed to be 50 years, after which NASA may extend the lease for an additional period of 25 years. Upon termination of the lease, the ISRPA would demolish the buildings and return the land unless reuse were negotiated. NASA would also retain the right to terminate the lease at any time to meet KSC requirements.

Study Area and Project Alternatives

Study Area: Kennedy Space Center occupies 56,500 ha (139,490 ac) of land located within Brevard and Volusia Counties and controlled by NASA. The study area includes KSC, Brevard County, and the five adjoining counties (Indian River, Orange, Osceola, Seminole, and Volusia). The alternative development sites proposed for the ISRP are located on KSC along the south portion of Kennedy Parkway South (also known as State Road 3). Kennedy Parkway South is the major north-south transportation arterial that allows public ingress and egress through KSC into Merritt Island and Titusville.

Project Alternatives: NASA evaluated the potential environmental impacts of three alternatives (Alternative 1, Alternative 2, and the No Action Alternative). The first two alternative actions involve developing and operating the ISRP at alternate locations on KSC and the associated environmental impacts of each option. The No Action Alternative was analyzed for the potential environmental consequences that may result if the proposed action is rejected (or not recommended) and present management of the study area continues.

Alternative 1 (Preferred Alternative): In Alternative 1, NASA proposes the development of the ISRP on approximately 142 ha (360 ac) of KSC property to the west of Kennedy Parkway South (State Road 3). Development and related construction activities would occur on land located immediately south of the KSC Visitors Complex along Space Commerce Way. Approximately 128 ha (316 ac) of the development (Phases A-E) would occur on the west side of Space Commerce Way. Phase F would occur on a 10 ha (24 ac) parcel east of Space Commerce Way, adjacent to and west of the Space Experiments Research and Processing Laboratory (SERPL). The larger area (Phases A-E) considered in Alternative 1 is dominated by citrus groves and includes remnant wetlands and disturbed habitats. The smaller area (Phase F) is undeveloped.

In Alternative 1, development would occur in 6 phases (Phases A-F) over 25 parcels, which would be serviced by approximately 4.5 kilometers (km) (2.8 miles (mi)) of roads. The parcels range from 1.8 to 10.2 ha (4.5 to 25.3 ac) in size with developable acreage between 1.8 and 6.2 ha (4.5 and 15.4 ac). Some parcels have dedicated no-build zones due to existing wetlands and stormwater ponds. The stormwater ponds would become part of the master stormwater system for the park. The proposed stormwater management system includes 10 connected treatment ponds for the collection and treatment of runoff generated from the developed parcels. Parcels would be developed to include 35 percent open space overall. The open space would include a central greenway, which would offer sidewalks and pedestrian access along wetlands and stormwater retention areas.

Alternative 2: Alternative 2 proposes construction and development of the ISRP in six phases on approximately 130 ha (321 ac) located northeast of the KSC south security gate (Gate #3) on Kennedy Parkway South (State Road 3), near B Avenue SW (or Tel-4 Road). This alternative, like Alternative 1, also considered Phase F development of 10 ha (24 ac) east of Space Commerce Way, adjacent to and west of the SERPL. The combined areas considered in Alternative 2 are undeveloped and characterized by high quality pine flatwoods and scrub habitat embedded with wetlands.

The area considered in Alternative 2 (including Phase F) is defined by 26 parcels, which would be serviced by approximately 4.2 (km) (2.6 (mi)) of roads. Of the 26 parcels, 25 parcels are proposed for development. These parcels range in size from 1.6 to 10.0 ha (4.0 to 24.0 ac) with developable acreage from 1.5 to 5.6 ha (3.7 to 13.8 ac). A 34.7 ha (85.7 ac) parcel has been established under this development plan to protect an extensive wetlands system. Four stormwater management ponds are proposed for the collection and treatment of runoff generated from the developed parcels. The Alternative 2 land use plan offers extensive greenways and sidewalks for pedestrian access along the wetland conservation area and between parcels.

Alternative 3 (No Action Alternative): Under the No Action Alternative, no new development would be proposed regarding the ISRP on KSC. This No Action Alternative would result in continuing the present management of the two proposed sites at KSC. Under the No Action Alternative, land currently managed by the USFWS would remain under USFWS management. Land leased through 2008 to the Kerr Foundation for citrus grove production would, after the lease expires, become part of the undeveloped KSC buffer, which is managed by the USFWS as part of the Merritt Island National Wildlife Refuge. The USFWS has long-term plans to restore the citrus groves to natural conditions.

Issues Identified During Scoping

Public involvement is a key element in the NEPA process. NASA initiated public involvement when it issued the October 8, 2002 Notice of Intent to prepare an EIS and conduct scoping meetings for the proposed action. All responses received from interested parties during the 45-day scoping period (October 8, 2002 through December 9, 2002) are presented in Appendix A of the DEIS. The primary concerns raised in public comments relate to traffic, socio-economics, housing, security, air quality, wetlands, and wildlife. These concerns were addressed in the DEIS. Impacts to soils from construction were indicated and thus were also analyzed.

Environmental Impacts

Traffic: The results of modeling studies of traffic, especially on north Merritt Island, showed that the implementation of either Alternative 1 or Alternative 2 would not result in significant degradation to traffic patterns or flows. Even at full build out of the ISRP, traffic would not be significantly degraded either on KSC or within Brevard County. To maintain acceptable levels of service after 2022 and with the existing roadway geometry, adjustments to traffic signal timing and other traffic management measures may be needed. Before such changes would be implemented, further environmental review would be conducted.

Socio-economics: The implementation of either Alternative 1 or Alternative 2 would draw major economic resources to the area, which would be positive and not adversely impact the growing regional economy.

Housing: The expected increase in demand for housing if the ISRP is implemented is consistent with planning within Brevard County and surrounding counties and is not expected to have a significant impact on the housing supply.

Security: The security issues raised during scoping have been addressed. NASA has constructed two new entrance gates, one on Kennedy Parkway and another on NASA Causeway respectively, to allow for 24-hour access through the Center via the new Space Commerce Way. These measures also allow the proposed ISRP, under both Alternatives 1 and 2, to be located outside of the secure areas of KSC.

Air Quality: Air quality would be impacted within the surrounding local area by construction and controlled burning activities and at KSC by increased traffic and associated emissions, especially of carbon monoxide. Construction activity would generate particulate matter (PM) and PM10 emissions that could significantly impact the quality of the air within the local region. Dust suppression methods and phasing of development would reduce the PM and PM10 emissions to well below the significance level of 5 tons per year, resulting in a negligible air quality impact.

Chapter 62-256 of the Florida Administrative Code (F.A.C.) allows the use of air curtain incinerators to dispose of ground cover and construction debris from land clearing activities. If an air curtain incinerator were properly used as prescribed in F.A.C. 62-256, the air emissions would remain minimal and thus have no significant impacts.

Although vehicular traffic would increase, the levels would not be expected to be larger than what has occurred in the past on the Kennedy Space Center in the 1970's at the height of the Apollo Program. In addition, the vehicles today are more efficient and have better emission controls. However, the increase in traffic could be expected to produce a significant impact to local air quality at KSC. This traffic would not have a significant negative impact on air quality outside KSC in Brevard County and the remaining study region. Because the potential significant decrease in air quality is estimated to be local to KSC and no justification or need currently exists to develop a regional mass transport systems plan, the ISRPA would encourage the use of the Brevard County sponsored commuter van pool systems and other public transportation systems such as Space Coast Area Transit, known locally as SCAT. As a part of the NASA and the FSA educational outreach activities, NASA would provide educational information on the value of reducing traffic and improving air quality within KSC. There are few direct mitigating actions that could be performed by NASA or FSA.

Wetlands and Hydrology: Construction and operation of the ISRP may alter surface water quality or hydrological processes, including impacts to Class II and III Waters, and surface water flows. Surface water quality, hydrological processes, and surface water flows are regulated by the Florida Water Resources Act of 1972 (Part IV of Chapter 373, Florida Statues (F.S.) and Chapter 62-40 of the F.A.C.), Section 404 of the Clean Water Act, and NASA regulations at 14 CFR subpart 1216.2, implementing Executive Order 11988, Floodplain Management, and Executive Order 11990, Protection of Wetlands. A Wetland Mitigation Plan would be required to address impacts related to wetland systems and stormwater flow within the alternative sites. The ISRPA or NASA as the landowner would obtain a Florida Environmental Resources Permit prior to any construction on the selected ISRP site, which would address issues of water quality, general hydrology, and surface water flow. Water quality monitoring may also be required to mitigate impacts. Low-impact Best Management Practices (BMP) and a Stormwater Management System would be implemented in the design, development, and operation of the ISRP.

Construction runoff into preserved wetlands could cause indirect impacts to water quality. To minimize disturbances to wetlands from construction-related runoff, construction would be avoided within the 7.6 m (25 ft) upland buffer extending from the delineated edge of preserved wetlands toward the upland. Standard BMPs would be implemented to minimize runoff into these protected areas. Dewatering into the sensitive hammock wetlands and swale marshes would be prohibited.

Wildlife: The cumulative effects of habitat fragmentation due to habitat loss from development, introduction of new roads, and increased human presence in either Alternative 1 or Alternative 2 could cause mortality or substantial harassment of individual eastern indigo snakes (Drymarchon corais couperi.), a species listed as threatened by the USFWS under the ESA, and thus be significant, unless mitigated. The USFWS has issued a Biological Opinion for Alternative 1, which is included in the appendixes to the DEIS. The Biological Opinion covers the eastern indigo snake, the only federally listed species that may be adversely affected by Alternative 1, the preferred alternative. The Biological Opinion indicates no jeopardy to the continued existence of the eastern indigo snake or adverse modification to critical habitat would occur if the recommended reasonable and prudent measures are taken to minimize the level of take of individuals of this species.

The indirect effects of habitat fragmentation, increased traffic on multiple roads, and increased human presence potentially resulting from implementation of the ISRP under Alternative 1 were determined in the Biological Assessment and Biological Opinion as “likely to adversely affect” the eastern indigo snake. The potential for the proposed action to result in incidental take of the indigo snake in the form of harm was considered significant. The USFWS Biological Opinion approved incidental take of all individuals.

The impact of habitat fragmentation and roads under Alternative 1 on Federal and State-listed threatened or endangered wading birds and the southeastern American kestrel (Falco sparverius paulus) would not be considered significant since the disturbed or artificial habitats being used are locally abundant and these species have a high opportunity to disperse.

If Alternative 2 were selected, several Federal and State-listed threatened or endangered species would be impacted. Both the Florida scrub-jay (Aphelocoma coerulescens) and the eastern indigo snake are federally listed threatened species. Direct and indirect effects would occur to individuals within these species due to development of the site under Alternative 2 and consequent loss of critical Florida scrub-jay and eastern indigo snake habitat, and habitat displacement and consequent increased risk of predation and vehicular collisions.

A Biological Opinion was not sought from the USFWS. If NASA selected Alternative 2, development could not proceed without obtaining a Biological Opinion from the USFWS for the eastern indigo snake and Florida scrub jay, and other federally listed threatened or endangered species, indicating no jeopardy to the species and no adverse modification of critical habitat, subject to limits on incidental take and implementation of recommended reasonable and prudent measures. The eastern indigo snake is also protected under Florida law.

The Biological Assessment determined that implementation of the proposed ISRP action on the Alternative 2 site would cause the direct loss of 73.4 ha (181.4 ac) of occupied Florida scrub-jay habitat resulting in incidental take, in the form of harm, of a minimum of eight Florida scrub-jay territories. Based on the long-term research of this local population the majority of the territories that would be impacted under this alternative are likely sources to the local KSC scrub-jay population. The Tel-4 Road (B Avenue SW) population is the only population on KSC that is not in decline and is known to be increasing. The proposed ISRP development on the Alternative 2 site has the potential to jeopardize core recovery efforts of this species at KSC. Development would not proceed on Alternative 2 without preparation of a new Biological Assessment, formal consultation with the USFWS, and procurement of a Biological Opinion, including a finding of “no jeopardy” and an Incidental Take Statement for this species. This potential impact would be considered significant.

Implementation of Alternative 2 would also have the potential to affect 125 to 206 gopher tortoises (Gopherus polyphemus), their habitat, and several commensals (species that benefit from co-existence with gopher tortoises, such as the Florida gopher frog (Rana capito aesopus), and the Florida mouse (Podomys floridanus). The gopher tortoise and other commensal species are protected under Florida State law. The direct and indirect effects of the loss or displacement of critical gopher tortoise habitat, destruction of occupied burrows, increased predation, and increased risk of vehicular collision could cause individual mortality of gopher tortoises and listed commensals.

Development could not proceed under Alternative 2 until a permit is secured pursuant to the requirements of Rules 68A-25.002 and 68A-27.005, F.A.C. authorizing the incidental take or relocation of gopher tortoises, including any encountered State-listed commensals.

Alternative 2 also has the potential, due to disturbance of soils and surface vegetation, to impact local and globally rare freshwater swale marshes, which harbor threatened populations of such species as Curtiss reedgrass (Calamovilfa curtissii (Vasey) Scribn.), a federally and State-listed threatened plant.

The potential exists for the effects of the various projects in the vicinity combined with the significant direct and indirect effects of the ISRP under Alternative 2 to result in highly significant impacts to biological resources. This finding considers the critical importance of the biological resources existing on and surrounding this site. The ability to provide adequate compensation for potential cumulative impacts would be of concern, particularly for impacts on the regionally important Tel-4 Road (B Avenue SW) Florida Scrub-jay population and the local and globally rare freshwater swale marshes, and associated species such as Curtiss reedgrass.

Lighting along roads and around and within buildings within newly developed areas of Alternative 2 (Phases A-E) may impact the federally listed bald eagle (Haliaeetus leucocephalus) by disrupting movement and breeding behaviors. A monitoring program, conducted in accordance with Bald Eagle Monitoring Guidelines (USFWS 2002), for any development activities occurring within 1 km (0.6 mi) of a bald eagle nest tree would be implemented to determine the eagle's response to these potential impacts. If significant changes in behavior were identified, then mitigation actions would be employed. For example, construction would be prohibited during the nesting season or nighttime lighting would be reduced to levels tolerated by the species.

Cumulative impacts of habitat fragmentation from habitat loss and introduction of new roads and increased human presence under Alternative 2 could cause the mortality or substantial harassment of numerous individual indigo snakes. Over time, this impact could negatively influence population viability. To reduce the adverse effects of this cumulative impact NASA would: (1) create an education program aimed at informing employees about the indigo snake's protected status and consequences of violating applicable laws, the indigo snake's high susceptibility to road mortality, its beneficial roles, and its generally gentle disposition towards humans (Breininger et al. 1994); (2) design new roads and retrofit, where practicable, existing roads to provide underpasses for movement between habitats; and (3) establish a monitoring program that would evaluate the effectiveness of the underpasses and address needed demographic data gaps to enable future establishment of sound conservation strategies. The second action presented would be expected to benefit other important wide-ranging wildlife.

Soils: Construction of the proposed ISRP would change the soil composition, structure, and function only within the proposed ISRP site under Alternatives 1 and 2. Construction impacts to on-site soils are considered unavoidable since on-site soils would need to be moved and augmented to raise finish floor elevations of facilities to be constructed. Therefore, no mitigation measures are proposed for reducing impacts to on-site soils. No impacts to soils are expected to occur off site. Operation of the ISRP would not impact soils either on or off-site.

Under the No Action Alternative, no adverse impacts would result. The activities associated with the development and operation of the proposed ISRP would not occur, therefore, no additional activities would occur to produce such impacts or contribute to cumulative impacts. Alternative 1 (after the citrus grove leases expire) and Alternative 2 sites would continue to be part of the undeveloped buffer area at KSC and as such be managed by the USFWS as part of the Merritt Island National Wildlife Refuge.

Jeffrey E. Sutton,
Assistant Administrator for Management Systems.

[FR Doc. 04-1694 Filed 1-26-04; 8:45 am]

BILLING CODE 7510-01-P